DEPARTMENT OF THE INTERIOR

Bureau of Land Management

[A2407-014-004-065516, #O2509-014-004-125222]

Invitation To Participate; Coal Exploration License Application COCO106747627, Rio Blanco County, CO

AGENCY: Bureau of Land Management, Interior.

ACTION: Notice of invitation.

SUMMARY: Pursuant to the Mineral Leasing Act of 1920, as amended by the Federal Coal Leasing Amendments Act of 1976, and the Department of the Interior's regulations, all interested, qualified parties are hereby invited to participate with Blue Mountain Energy, Inc., on a pro rata cost-sharing basis, in this program for the exploration of coal deposits owned by the United States of America in Rio Blanco County, Colorado.

DATES: Blue Mountain Energy, Inc. published the notice of invitation to participate in this coal exploration license once each week for 2 consecutive weeks in the Rio Blanco Herald Times, on September 18, 2025, and September 25, 2025. With this notice, any party seeking to participate in this exploration program is notified that they must send written notice to the Bureau of Land Management (BLM) and Blue Mountain Energy, Inc., as provided in the ADDRESSES section below, no later than January 16, 2026.

ADDRESSES: The BLM Colorado State Office, Leasable Minerals Program, has copies of the exploration license application and plan (serialized as COCO106747627) available for public review at the Denver Federal Center, Building 40, Lakewood, CO 80215. These documents may be reviewed Monday through Friday, excluding Federal holidays. Requests to review the materials should be directed to the Leasable Minerals Program via email at BLM_COSO_COAL_NEL@blm.gov. Any party seeking to participate in this exploration program must send written notice to the Leasable Mineral Program at BLM_COSO_COAL_NEL@blm.gov, and to Joel Riggins, Blue Mountain Energy, Inc., c/o Deserado Mine, 3607 County Road 65, Rangely, Colorado 81648.

FOR FURTHER INFORMATION CONTACT: Brad Stock, telephone: (307) 261-7671; email: bstock@blm.gov. Individuals in the United States who are deaf, blind, hard of hearing, or have a speech disability may dial 711 (TTY, TDD, or TeleBraille) to access telecommunications relay services for contacting the Leasable Minerals team. Individuals outside the United States should use the relay services offered within their country to make international calls to the point-of-contact in the United States.

SUPPLEMENTARY INFORMATION: Blue Mountain Energy, Inc. has applied to the BLM for a 2-year coal exploration license on public lands located adjacent to the existing Deserado Coal Mine near Rangely, Colorado. Coal exploration on lands not contained in a Federal coal lease is authorized under the Mineral Leasing Act of 1920, as amended. This provides the public with a methodology to gain additional geologic information of the coal underlying the exploration area to determine the viability of the coal resources. The BLM regulations at 43 CFR 3410.2 require the publication of an invitation for interested parties to participate in the coal exploration in the Federal Register. The BLM may require a modification to the exploration plan to accommodate the legitimate exploration needs of persons seeking to participate. The proposed exploration area includes the following described lands in Rio Blanco County, Colorado:

Sixth Principal Meridian

T2N, R100 W, 6th P.M.

Sec. 6, Lots 9, 10, 11, 12, SE¼NW¼, SW¼NE¼.

T2N, R101 W, 6th P.M.

Sec. 1, E½SE¼NE¼.

T3N, R100 W, 6th P.M.

Sec. 19, Lot 8;

Sec. 30, All;

Sec. 31, Lots 5, 6, 7, 8, E½W½, and W½E½.

T3N, R101 W, 6th P.M.

Sec. 23, NE¼SE¼;

Sec. 24, SW¼, and S½SE¼;

Sec. 25, N½;

Sec 36, E½SE¼SE¼.

The described lands consist of 1,991 acres, more or less, according to the official plat of the survey on file with the BLM. The proposed exploration program is fully described in an exploration plan that Blue Mountain Energy, Inc., has submitted to the BLM for approval, which is available for review upon request as stated above.

(Authority: 43 CFR 3410.2-1(c)(1))

Douglas Vilsack,
BLM Colorado State Director.

[FR Doc. 2025-23141 Filed 12-16-25; 8:45 am]

BILLING CODE 4331-16-P